DEPARTMENT OF HOUSING AND URBAN DEVELOPMENT

24 CFR Chapter V

[Docket No. FR-5976-C-04]

Housing Opportunity Through Modernization Act of 2016: Initial Guidance; Correction

AGENCY: Office of General Counsel, HUD.

ACTION: Initial implementation guidance; correction.

SUMMARY: On October 24, 2016, HUD published implementation guidance for the Housing Opportunity Through Modernization Act. In that document, HUD inadvertently published the incorrect implementation information for changes regarding the Self-Help Homeownership Opportunity Program (SHOP). This notice corrects that information.

DATES: Effective Date: The effective date for the implementation guidance of October 24, 2016 is unchanged.

FOR FURTHER INFORMATION CONTACT: With respect to this supplementary document, contact Ariel Pereira, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

SUPPLEMENTARY INFORMATION:

I. Introduction

On October 24, 2016, HUD published a document advising the public on HUD's implementation plans for the Housing Opportunity Through Modernization Act (HOTMA) (Pub. L. 114-201). That document inadvertently contained inaccurate implementation information for changes relating to SHOP. This correction replaces that inaccurate information with the corrected information.

II. Correction

In document FR-5897-N-01, published October 24, 2016 (81 FR 73030), make the following correction: On page 73032, in the first column, replace the implementation action for section 502 with the following paragraph:

Implementation action: This provision was effective upon enactment of HOTMA. The Fiscal Year 2016 SHOP Notice of Funding Availability states that due to this provision, all applicants are strongly encouraged, but not required, to use ENERGY STAR-labeled appliances and products. Applicants are also strongly encouraged, but not required, to meet the standard for ENERGY STAR Certified New Homes (single-family homes and low-rise multifamily properties up to three stories), or for ENERGY STAR Multifamily High Rise (four or more stories).

Dated: December 1, 2016.
Ariel Pereira,
Associate General Counsel for Legislation and Regulations.

[FR Doc. 2016-29208 Filed 12-5-16; 8:45 am]

BILLING CODE 4210-67-P